DEPARTMENT OF THE INTERIOR

National Park Service

[NPS-WASO-NAGPRA-19581; PPWOCRADN0-PCU00RP14.R50000]

Notice of Inventory Completion: Hudson Museum, University of Maine, Orono, ME

AGENCY: National Park Service, Interior.

ACTION: Notice.

SUMMARY: The Hudson Museum has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Hudson Museum, University of Maine. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Hudson Museum, University of Maine at the address in this notice by December 17, 2015.

ADDRESSES: Gretchen Faulkner, Hudson Museum, University of Maine, 5746 Collins Center for the Arts, Orono, ME 04469-5746, telephone (207) 581-1904, email gretchen_faulkner@umit.maine.edu.

SUPPLEMENTARY INFORMATION: Notice is here given in accordance with the Native American Graves Protection and Repatriation Act (NAGPRA), 25 U.S.C. 3003, of the completion of an inventory of human remains under the control of the Hudson Museum, University of Maine, Orono, ME. The human remains were removed from Safety Harbor and Weeden Island, Pinellas County, FL.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Hudson Museum and University of Maine professional staff in consultation with representatives of the Miccosukee Tribe of Indians and the Seminole Tribe of Florida (previously listed as the Seminole Tribe of Florida (Dania, Big Cypress, Brighton, Hollywood & Tampa Reservations)).

History and Description of the Remains

In 1928, human remains representing, at minimum, two individuals were removed from Weeden Island in Pinellas County, FL. They were excavated by Dr. Clarence Edmonds Hemingway (Ernest Hemingway's father) and were part of the Portland Society of Natural History Collection, which were transferred to the Hudson Museum in 1970. The human remains represent one male, age 25-40, and one female, age 30-60. No known individuals were identified. No associated funerary objects are present.

The human remains were examined by Marcella H. Sorg, Ph.D., D-ABFA, Forensic Anthropologist in July 2002, and she concluded that they were of Native American ancestry. Museum records and collection documentation identified these human remains as “Calusa tribe Fla.” Consultation identified both the Miccosukee Tribe of Indians and the Seminole Tribe of Florida as the present-day Indian tribes with a shared group identity to these human remains.

On an unknown date, human remains representing, at minimum, one individual were removed from Safety Harbor, Pinellas, FL. These human remains were transferred by the Portland Society of Natural History. The human remains represent one male, age 18-50. No known individuals were identified. No associated funerary objects are present.

The human remains were examined by Marcella H. Sorg, Ph.D., D-ABFA, Forensic Anthropologist in July 2002, and she concluded that they were of Native American ancestry. Museum records and collection documentation identified these human remains as “Timucua Tribe Fla.” Consultation identified both the Miccosukee Tribe of Indians and the Seminole Tribe of Florida as the present-day Indian tribes with a shared group identity to these human remains.

Determinations Made by the Hudson Museum, University of Maine

Officials of the Hudson Museum, University of Maine have determined that:

• Pursuant to 25 U.S.C. 3001(9), the human remains described in this notice represent the physical remains of three individuals of Native American ancestry.

• Pursuant to 25 U.S.C. 3001(2), there is a relationship of shared group identity that can be reasonably traced between the Native American human remains and the Miccosukee Tribe of Indians and the Seminole Tribe of Florida (previously listed as the Seminole Tribe of Florida (Dania, Big Cypress, Brighton, Hollywood & Tampa Reservations).

Additional Requestors and Disposition

Lineal descendants or representatives of any Indian tribe or Native Hawaiian organization not identified in this notice that wish to request transfer of control of these human remains should submit a written request with information in support of the request to Gretchen Faulkner, Hudson Museum, University of Maine, 5746 Collins Center for the Arts, Orono, ME 04469-5746, telephone (207) 581-1904, email gretchen_faulkner@umit.maine.edu, by December 17, 2015. After that date, if no additional requestors have come forward, transfer of control of the human remains to may proceed.

The Hudson Museum, University of Maine is responsible for notifying the Miccosukee Tribe of Indians and the Seminole Tribe of Florida (previously listed as the Seminole Tribe of Florida (Dania, Big Cypress, Brighton, Hollywood & Tampa Reservations)).

Dated: October 13, 2015.
Melanie O'Brien,
Manager, National NAGPRA Program.

[FR Doc. 2015-29357 Filed 11-16-15; 8:45 am]

BILLING CODE 4312-50-P